DEPARTMENT OF THE INTERIOR

National Park Service

[NPS-WASO-NAGPRA-NPS0031412; PPWOCRADN0-PCU00RP14.R50000]

Notice of Inventory Completion: Boston University, Boston, MA

AGENCY: National Park Service, Interior.

ACTION: Notice.

SUMMARY: Boston University has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Boston University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Boston University at the address in this notice by March 11, 2021.

ADDRESSES: Kathryn M. Mellouk, Associate Vice President for Research Compliance, Boston University, One Silber Way, 9th floor, Boston, MA 02215, telephone (617) 358-4730, email kateski@bu.edu.

SUPPLEMENTARY INFORMATION: Notice is here given in accordance with the Native American Graves Protection and Repatriation Act (NAGPRA), 25 U.S.C. 3003, of the completion of an inventory of human remains and associated funerary objects under the control of Boston University, Boston, MA. The human remains and associated funerary objects were removed from the St. Johns River, which runs from Duval County down to Brevard County, FL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Boston University professional staff in consultation with representatives of the Seminole Tribe of Florida (previously listed as Seminole Tribe of Florida (Dania, Big Cypress, Brighton, Hollywood & Tampa Reservations)).

An invitation to consult was extended to the Miccosukee Tribe of Indians and The Seminole Nation of Oklahoma.

History and Description of the Remains

Sometime prior to 1936, human remains representing, at minimum, one individual were removed from the St. Johns River, which runs from Duval County down to Brevard County, FL. The human remains (inventory numbers 2067, 2068, and 129) were collected or acquired by Charles Herbert Mitchell. In 1936, Mr. Mitchell's family donated a portion of his collection to Boston University. In December 2018, a long-term volunteer curator of the University's archeology program collections and two undergraduate students found the human remains and wrote a description of them. A year later, when one of the students heard that the program was reviewing all its collections, the student recovered the description and sent it to university faculty on January 27, 2020. No known individual was identified. The one associated funerary object is a lot of ceramic sherds (inventory numbers 2016, 2017, 2018, and 2030).

Determinations Made by Boston University

Officials of Boston University have determined that:

• Pursuant to 25 U.S.C. 3001(9), the human remains described in this notice represent the physical remains of one individual of Native American ancestry, based on biological evidence.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary objects and the Miccosukee Tribe of Indians; Seminole Tribe of Florida (previously listed as Seminole Tribe of Florida (Dania, Big Cypress, Brighton, Hollywood & Tampa Reservations)); and The Seminole Nation of Oklahoma (hereafter referred to as “The Tribes”), based on oral tradition, archeological, geographic, and linguistic evidence.

Additional Requestors and Disposition

Lineal descendants or representatives of any Indian Tribe or Native Hawaiian organization not identified in this notice that wish to request transfer of control of these human remains and associated funerary objects should submit a written request with information in support of the request to Kathryn M. Mellouk, Associate Vice President for Research Compliance, Boston University, One Silber Way, 9th floor, Boston, MA 02215, telephone (617) 358-4730, email kateski@bu.edu, by March 11, 2021. After that date, if no additional requestors have come forward, transfer of control of the human remains and associated funerary objects to The Tribes may proceed.

Boston University is responsible for notifying The Tribes that this notice has been published.

Dated: January 21, 2021.
Melanie O'Brien,
Manager, National NAGPRA Program.

[FR Doc. 2021-02610 Filed 2-8-21; 8:45 am]

BILLING CODE 4312-52-P